DEPARTMENT OF HOMELAND SECURITY

Coast Guard

33 CFR Part 117

[Docket No. USCG-2013-1020]

Drawbridge Operation Regulation; Albemarle Sound to Sunset Beach, Atlantic Intracoastal Waterway (AICW), Wrightsville Beach, NC

AGENCY: Coast Guard, DHS.

ACTION: Notice of deviation from drawbridge regulation.

SUMMARY: The Coast Guard has issued a temporary deviation from the operating schedule that governs the operation of the S.R. 74 Bridge, at mile 283.1, over the AICW, at Wrightsville Beach, NC. The deviation is necessary to facilitate bearing replacement to the bridge. This temporary deviation allows one span of the double leaf bascule drawbridge to remain in the closed to navigation position at a time.

DATES: This deviation is effective from 7 a.m. on January 8, 2014 to 11 p.m. January 29, 2014.

ADDRESSES: The docket for this deviation, [USCG-2013-1020] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Jim Rousseau, Bridge Administration Branch Fifth District, Coast Guard; telephone (757) 398-6557, email James.L.Rousseau2@uscg.mil. If you have questions on reviewing the docket, call Barbara Hairston, Program Manager, Docket Operations, (202) 366-9826.

SUPPLEMENTARY INFORMATION: The North Carolina Department of Transportation, the owner and operator of this bascule bridge, has requested a temporary deviation from the current operating regulations set out in 33 CFR 117.821(a)(6), to facilitate bearing replacement to the bridge.

Under the current operating schedule, the draw for the S.R. 74 Bridge, at mile 283.1 over the AICW, at Wrightsville Beach, NC shall open on the hour between 7 a.m. to 7 p.m. and from 7 p.m. to 7 a.m. need not open except with a two hour advance notice.

Under this temporary deviation, one span of the drawbridge will be maintained in the closed to navigation position at a time, beginning at 7 a.m., on Wednesday, January 8, 2014 until and including to 11 p.m., on Wednesday January 29, 2014. The bridge will operate under its current operating schedule at all other times. The Coast Guard has carefully coordinated the restrictions with commercial and recreational waterway users.

Due to scaffolding hanging below the bridge the S.R. 74 Bridge has a temporary vertical clearance in the closed position of 18 feet above mean high water for ongoing maintenance. Vessels able to pass under the bridge in the closed position may do so at anytime and are advised to proceed with caution. Or, if they can pass through a single span opening, they may request such under the current operating schedule. There is no immediate alternate route for vessels transiting this section of the AICW that cannot pass a single span opening. The Coast Guard will also inform additional waterway users through our Local and Broadcast Notices to Mariners of the closure periods for the bridge so that vessels can arrange their transits to minimize any impacts caused by the temporary deviation.

In accordance with 33 CFR 117.35(e), the drawbridge must return to its regular operating schedule immediately at the end of the designated time period. This deviation from the operating regulations is authorized under 33 CFR 117.35.

Dated: December 13, 2013.
Waverly W. Gregory, Jr.,
Bridge Program Manager, Fifth Coast Guard District.

[FR Doc. 2013-30655 Filed 12-23-13; 8:45 am]

BILLING CODE 9110-04-P